DEPARTMENT OF HEALTH AND HUMAN SERVICES

Administration for Children and Families

[OMB #: 0970-0386]

Submission for Office of Management and Budget Review; Proposed Information Collection Activity; Office of Community Services Community Economic Development Performance Progress Report

AGENCY: Office of Community Services, Administration for Children and Families, U.S. Department of Health and Human Services.

ACTION: Request for public comments.

SUMMARY: The Office of Community Services (OCS), Administration for Children and Families (ACF), U.S. Department of Health and Human Services is requesting a 3-year extension of the Community Economic Development (CED) Performance Progress Report (PPR) (Office of Management and Budget (OMB) #: 0970-0386), expiration date February 28, 2026, with revisions to support a quarterly reporting schedule. This request updates burden estimates to account for new quarterly reporting requirements. While the core CED PPR form remains unchanged and will still be submitted semi-annually, new awardees must now report quarterly. In alternate quarters (Q1 and Q3), they will complete a shorter version of the form with narrative updates only.

DATES: Comments due January 21, 2026.

ADDRESSES: The public may view and comment on this information collection request at: https://www.reginfo.gov/public/do/PRAViewICR?ref_nbr=202512-0970-006. You can obtain copies of the proposed collection of information and submit comments by emailing infocollection@acf.hhs.gov. Identify all requests by the title of the information collection.

SUPPLEMENTARY INFORMATION:

Description: OCS is seeking to extend the CED PPR (OMB #: 0970-0386), with revisions, for three years. This extension will permit OCS to continue collecting the performance progress information about projects funded through the CED program from current and future grant recipients.

The CED PPR collects information regarding the implementation and outcomes of CED projects to support program monitoring, the provision of training and technical assistance, and the fulfillment of congressional reporting requirements. The report tracks quantitative information, including measures of job creation and project expenditures, along with narrative descriptions of project activities, challenges, and changes.

The CED PPR will continue to be administered to all active grant recipients of the CED program. Grant recipients will complete this report based on activities completed through the second and fourth quarters of each project year.

This request revises the burden estimates to reflect new reporting requirements for quarterly reporting. The burden estimates reflect quarterly reporting for new awardees as well as a shorter response time for quarterly reporters in alternate quarters when they will only be required to complete a subset of items on the form. This request makes no changes to the current approved CED PPR form that all grant recipients will be required to complete semi-annually. The current approved CED PPR is cumulative and covers activities completed through the second and fourth quarters of each project year. For the first and third quarters of each project year, quarterly reporters will complete a subset of items to provide narrative updates on project progress.

Currently, grant recipients submit the CED PPR semi-annually. Through this request, OCS proposes to change the reporting requirements to collect information on CED project progress on a quarterly basis. This will allow OCS to monitor grant recipient progress more frequently and to support the timely provision of training and technical assistance. The reporting schedule for CED projects will be identified in the Notice of Funding Opportunity (NOFO) under which projects are funded. In the past, CED NOFOs identified a semi-annual reporting schedule. Quarterly reporting requirements were included in the federal fiscal year (FFY) 2025 NOFO for the first time.

To reduce the burden for quarterly reporters, OCS will only require grant recipients to complete a subset of items from the CED PPR in the first and third quarters of each project year. The burden estimates for the subset of items are included in the annual burden estimates for the CED PPR Short Form. The CED PPR Short Form does not include the quantitative measures and focuses on narrative descriptions of project activities, challenges, and changes.

Respondents: The CED PPR will be completed by all CED grant recipients active during the 3-year extension. The CED PPR Short Form will be completed by grant recipients receiving awards through an application to a NOFO requiring quarterly reporting.

Annual Burden Estimates

OCS anticipates including quarterly reporting requirements in NOFOs published in FFY 2025 and later. Because CED projects are funded for 3- to 4-year project periods, OCS anticipates that only half of active grant recipients will be required to complete the short-form during the extension period. These assumptions are reflected in the burden estimates below.

Instrument | Total number of respondents | Annual number of responses per respondent | Average burden hours per response | Annual burden hours
CED PPR | 79 | 2 | 1.5 | 237
CED PPR Short Form | 48 | 2 | 0.5 | 48
Estimated Total Annual Burden Hours |  |  | 285

Authority: Section 680(a)(2), Community Services Block Grant Act, 42 U.S.C. 9921.

Mary C. Jones,
ACF/OPRE Certifying Officer.

[FR Doc. 2025-23546 Filed 12-19-25; 8:45 am]

BILLING CODE 4184-27-P